DEPARTMENT OF ENERGY

Federal Energy Regulatory Commission

Combined Notice of Filings #1

April 16, 2007.

Take notice that the Commission received the following electric rate filings:

Docket Numbers: ER03-421-012.

Applicants: PPL Wallingford Energy LLC; PPL EnergyPlus, LLC.

Description: PPL Wallingford Energy LLC and PPL EnergyPlus, LLC submit a compliance Filing pursuant to the Commission's 3/23/07 order.

Filed Date: 4/12/2007.

Accession Number: 20070412-5031.

Comment Date: 5 p.m. Eastern Time on Thursday, May 3, 2007.

Docket Numbers: ER03-1398-005.

Applicants: South Carolina Electric & Gas Company.

Description: South Carolina Electric & Gas Co submits a compliance filing as required by the March 7, 2007 Order.

Filed Date: 4/6/2007.

Accession Number: 20070411-0070.

Comment Date: 5 p.m. Eastern Time on Friday, April 27, 2007.

Docket Numbers: ER07-721-000.

Applicants: Idaho Power Company.

Description: Idaho Power Co. submits its Standard Large Generator Interconnection Agreement filed with Telocaset Wind Power Partners, LLC.

Filed Date: 4/6/2007.

Accession Number: 20070411-0068.

Comment Date: 5 p.m. Eastern Time on Friday, April 27, 2007.

Docket Numbers: ER07-733-000.

Applicants: Central Illinois Public Service Company; Central Illinois Light Company; Illinois Power Company; Union Electric Company; Ameren Illinois Utilities.

Description: Ameren Services Co's et al. submits an application to make sales to affiliates for capacity for the period of 6/1/07-9/30/07.

Filed Date: 4/11/2007.

Accession Number: 20070412-0096.

Comment Date: 5 p.m. Eastern Time on Wednesday, May 2, 2007.

Docket Numbers: ER07-739-000.

Applicants: Aquila Long Term, Inc.

Description: Aquila Long Term, Inc submits a Notice of Cancellation of its FERC Electric Tariff, Original Volume 1, effective 6/11/07.

Filed Date: 4/12/2007.

Accession Number: 20070413-0145.

Comment Date: 5 p.m. Eastern Time on Thursday, May 3, 2007.

Docket Numbers: ER07-740-000.

Applicants: Southwestern Electric Power Company.

Description: Southwestern Electric Power Co submits a Power Supply Agreement for the Requirements Service dated 9/30/05 with Hope Water & Light Commission, Rate Schedule 210.

Filed Date: 4/12/2007.

Accession Number: 20070413-0146.

Comment Date: 5 p.m. Eastern Time on Thursday, May 3, 2007.

Docket Numbers: ER07-741-000.

Applicants: Southwestern Electric Power Company.

Description: Southwestern Electric Power Co submits a Power Supply Agreement for Requirements Service dated 12/13/06 with the City of Bentonville, Arkansas, Rate Schedule 211.

Filed Date: 4/12/2007.

Accession Number: 20070413-0147.

Comment Date: 5 p.m. Eastern Time on Thursday, May 3, 2007.

Docket Numbers: ER07-742-000.

Applicants: MidAmerican Energy Company.

Description: MidAmerican Energy Company submits the Confirmation Letter dated 4/9/07 with the City of Eldridge, Iowa and request waiver of the regulations.

Filed Date: 4/12/2007.

Accession Number: 20070413-0148.

Comment Date: 5 p.m. Eastern Time on Thursday, May 3, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Deputy Secretary.

[FR Doc. E7-7630 Filed 4-20-07; 8:45 am]

BILLING CODE 6717-01-P